ENVIRONMENTAL PROTECTION AGENCY

[EPA-HQ-OW-2008-0517; FRL-9611-7]

RIN 2040-AF06

Notice of Final 2010 Effluent Guidelines Program Plan; Re-Opening Public Comment Period

AGENCY: Environmental Protection Agency (EPA).

ACTION: Notice; Re-opening Public Comment Period.

SUMMARY: On October 26, 2011, EPA published its final 2010 Effluent Guidelines Program Plan (“final 2010 Plan”) and announced its 2011 Effluent Guidelines Reviews, as required under the Clean Water Act (CWA). Since publication, the Agency has received several requests for additional time to submit comments. EPA is therefore re-opening the comment period and will accept public comments on both actions for an additional 60 days.

DATES: Submit comments on or before February 27, 2012.

ADDRESSES: Comments: Submit your comments on the final 2010 Effluent Guidelines Program Plan identified by Docket ID No. EPA-HQ-OW-2008-0517, by one of the following methods:

• http://www.regulations.gov: Follow the on-line instructions for submitting comments.

• Email: ow-docket@epa.gov, Attention Docket ID No. EPA-HQ-OW-2008-0517.

• Fax: (202) 566-9744.

• Mail: Water Docket, Environmental Protection Agency, Mailcode: 28221T, Attention Docket ID No. EPA-HQ-OW-2008-0517, 1200 Pennsylvania Ave. NW., Washington, DC 20460.

• Hand Delivery: EPA Docket Center, EPA West, Room 3334, 1301 Constitution Avenue NW., Washington, DC, Attention Docket ID No. EPA-HQ-OW-2008-0517. Such deliveries are accepted only during the Docket Center's normal hours of operation, and special arrangements should be made for deliveries of boxed information.

Instructions: Direct your comments on the final 2010 Effluent Guidelines Program Plan to Docket ID No. EPA-HQ-OW-2008-0517. EPA's policy is that all comments received will be included in the public docket without change and could be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment because of technical difficulties and cannot contact you for clarification, EPA might not be able to consider your comment. Electronic files should avoid the use of special characters, any form of encryption, and be free of any defects or viruses. For additional information about EPA's public docket visit the EPA Docket Center homepage at http://www.epa.gov/epahome/dockets.htm. For additional instructions on submitting comments, go to the SUPPLEMENTARY INFORMATION section of this document.

Submitting Confidential Business Information (CBI)

Any CBI you wish to submit should be sent via a trackable physical method, such as Federal Express or United Parcel Service, to Mr. M. Ahmar Siddiqui, Document Control Officer, Engineering and Analysis Division (4303T), Room 6231S EPA West, U.S. EPA, 1200 Pennsylvania Ave. NW., Washington, DC 20460. A CBI package should be double-wrapped, so that the CBI is in one package, which is itself inside another package. Clearly mark the part or all of the information that you claim to be CBI. For CBI information on a disk or CD-ROM that you mail to EPA, mark the outside of the disk or CD-ROM as CBI and then identify electronically within the disk or CD-ROM the specific information that is claimed as CBI. In addition to one complete copy of the material that includes information claimed as CBI, a copy of the material that does not contain the information claimed as CBI must be submitted for inclusion in the public docket. Information marked as CBI will not be disclosed except in accordance with procedures set forth in 40 CFR part 2.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave. NW., Washington, DC 20004. The Public Reading Room is open from 8:30 a.m. to 4:30 p.m., Monday through Friday, excluding federal holidays. The telephone number for the Public Reading Room is (202) 566-1744, and the telephone number for the Water Docket is (202) 566-2426.

Submit your comments on the 2011 Effluent Guidelines Reviews identified by Docket ID No. EPA-HQ-OW-2010-0824 using one of the methods described above.

FOR FURTHER INFORMATION CONTACT: Mr. William F. Swietlik, Engineering and Analysis Division, Office of Water, 4303T, U.S. Environmental Protection Agency, 1200 Pennsylvania Avenue NW., Washington, DC., 20460; telephone number: (202) 566-1129; fax number: (202) 566-1053; email address: swietlik.william@epa.gov.

SUPPLEMENTARY INFORMATION:

I. General Information

A. Supporting Documents for the Final 2010 Effluent Guidelines Program Plan

Key documents providing additional information about EPA's annual reviews and the final 2010 Effluent Guidelines Program Plan include the following:

• Technical Support Document for the 2010 Effluent Guidelines Program Plan, EPA-820-R-10-021, DCN 07320;

• Coalbed Methane Point Source Category: Detailed Study Report, EPA-820-R-10-022, DCN 09999;

• Draft Guidance Document: Best Management Practices for Unused Pharmaceuticals at Health Care Facilities, August 26, 2010, EPA-821-R-10-006.

• Ore Mining and Dressing Category Preliminary Study, EPA-820-R-10-025, DCN 07369.

B. How can I get copies of these documents and other related information?

1. Docket. EPA has established official public dockets for these actions under Docket ID Nos. EPA-HQ-OW-2008-0517 and EPA-HQ-OW-2010-0824. The official public docket is the collection of materials that is available for public viewing at the Water Docket in the EPA Docket Center, (EPA/DC) EPA West, Room 3334, 1301Constitution Ave, NW., Washington, DC 20460.

2. Electronic Access. You may access this Federal Register document electronically through the United States government online source for Federal regulations at http://www.regulations.gov.

C. What should I consider as I prepare my comments for EPA?

1. Tips for Preparing Your Comments. When submitting comments, remember to:

• Identify the rulemaking by docket number and other identifying information (subject heading, Federal Register date and page number).

• Follow directions—The agency might ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your comments by the comment period deadline identified.

II. Re-Opening of the Public Comment Period for the Final 2010 Effluent Guidelines Program Plan (“Final 2010 Plan”) and the 2011 Effluent Guidelines Reviews

On October 26, 2011 (76 FR 66286), EPA published its final 2010 Effluent Guidelines Program Plan (“final 2010 Plan”), which, as required under the Clean Water Act (CWA), identified new or existing industrial dischargers, both those discharging directly to surface waters and those discharging to publicly owned treatment works (POTWs), selected for effluent guidelines rulemaking, and provided a schedule for such rulemakings. The Agency solicited comments from the public on the final Plan for 30 days (to have been submitted on or before November 25, 2011). The notice also solicited data and information (during the same 30-day period) for EPA's 2011 Effluent Guidelines Reviews pursuant to the authority of CWA sections 304(b), 304(g), 301(d) and 307(b).

The Agency received several requests for additional time to submit comments. In response, EPA is re-opening the public comment period and will accept additional public comments on its final 2010 Effluent Guidelines Program Plan, which announced schedules to develop standards for wastewater discharges produced by natural gas extraction from underground coalbed and shale formations as well as mercury discharges from dental offices. EPA is also accepting additional data and information for its 2011 Effluent Guidelines Program Reviews, which were announced as a part of the 2010 Plan released in October. For more information visit http://water.epa.gov/lawsregs/lawsguidance/cwa/304m/index.cfm. EPA believes that this additional 60-day comment period will assist in providing interested stakeholders, as well as other members of the public, adequate time to review the documents and provide written comments.

Dated: December 19, 2011.
Nancy K. Stoner,
Acting Assistant Administrator for Water.

[FR Doc. 2011-33153 Filed 12-23-11; 8:45 am]

BILLING CODE 6560-50-P